SOCIAL SECURITY ADMINISTRATON

Statement of Organization, Functions and Delegations of Authority; Correction

AGENCY: Social Security Administration.

ACTION: Notice; correction.

SUMMARY: The Social Security Administration published a document in the Federal Register of January 15, 2003, amending Part S of the Statement of Organization, Functions and Delegations of Authority for the Social Security Administration. There are three additional changes that are needed.

Corrections

In the Federal Register of January 15, 2003, in FR Doc. 03-764, on page 2100, second column under Section S7C.10 The Office of Labor-Management and Employee Relations—(Organization), add the following:

The Office of Labor-Management and Employee Relations under the leadership of the Associate Commissioner, Office of Labor-Management and Employee Relations includes:

Retitle E. to The Center for Negotiations (S7CG).

Under Section S7C.20 The Office of Labor-Management and Employee Relations—(Functions) should read as follows:

Delete:

C., line 5, starting with “The functions of the office include the following:” and items 1 through 12.

Dated: January 30, 2003.
Don Putman,
Director, Center for Classification and Organization Management.

[FR Doc. 03-2662 Filed 2-4-03; 8:45 am]

BILLING CODE 4191-X-P